DEPARTMENT OF STATE

[Public Notice 3632]

Bureau of Educational and Cultural Affairs Request for Grant Proposals: International Visitor Program Assistance Awards

SUMMARY: The Office of International Visitors of the Division of Professional and Cultural Exchanges, Bureau of Educational and Cultural Affairs, (ECA/PE/V), United States Department of State (DOS) announces an open competition for two assistance awards to support the International Visitor program. Awards will be divided into one small awards' category (Award A) and one large awards' category (Award B). Funding will be for FY-2002 (October 1, 2001-September 30, 2002). The small assistance award (AWARD A) will include the development and implementation of International Visitor programs (IV) for up to 450 current or potential foreign leaders; the large award (AWARD B) will include the development and implementation of IV programs for up to 1,700 current or potential foreign leaders. Public and private nonprofit organizations not receiving Office of International Visitor assistance awards for FY-2002 and meeting the provisions described in IRS regulation 26 CFR 1.501© may apply for these awards. *[See Project Objectives, Goals and Implementation (POGI) for definitions of program-related terminology.]

The intent of this announcement is to provide the opportunity for two organizations to develop and implement a variety of IV programs including those funded through FREEDOM Support Act (FSA) and Support for Eastern European Democracy (SEED) Act transfers. The award recipients will function as national program agencies (NPAs) and will work closely with DOS Bureau staff, who will guide them through procedural, budgetary and/or programmatic issues for the full range of IV programs, as they arise. (Hereafter, the terms “award recipient” and “national program agency” will be used interchangeably to refer to the winning organization(s). On occasion, the award recipients may be asked to develop and implement specialized IV programs.

The award recipients will develop over the course of fiscal year 2002 (October 1, 2001—September 30, 2002) two discrete sets of IV programs: (1) (AWARD A): up to 450 foreign participants; and (2) (AWARD B): up to 1,700 foreign participants. Applicant organizations may bid on one or both awards. Pending availability of funds, one award will be made under the small assistance award and one will be made under the large assistance award. If an organization is interested in bidding on both awards, a separate proposal and budget is required for each award.

Program Information

Overview: IV program goals are based on U.S. foreign policy objectives and are designed to: (1) increase mutual understanding between the people of the U.S. and the people of other countries; and (2) provide substantive professional exchange between the foreign participants and their U.S. counterparts. Participants are current or potential foreign leaders in government, politics, media, education, science, labor relations, and other key fields. They are selected by officers of U.S. embassies overseas and approved by the DOS staff in Washington, D.C. Since the program's earliest inception in 1940, there have been more than 140,000 distinguished participants in the program. Almost 200 program alumni subsequently became heads of state or government in their home countries. All IV programs must maintain a non-partisan character.

The Bureau seeks proposals from non-profit organizations for development and implementation of professional programs for Bureau-sponsored International Visitors to the U.S. Once the awards are made, separate proposals will be required for each group program (Single Country (SCP)*, Sub-Regional (SRP)*, Regional (RP)*, and Multi-Regional (MRP)*) as well as less formal proposals for Individual and Individuals Traveling Together (ITT)* programs. At this time proposals are not required for Voluntary Visitor (VolVis)* programs.

Each program will be focussed on a substantive theme. Some common IV program themes are: (1) U.S. foreign policy; (2) U.S. government systems; (3) U.S. political system; (4) economic development; (5) education and training; (6) media; (7) information technology; (8) U.S. social concerns; and (9) environmental issues. IV programs must conform to all Bureau requirements and guidelines. Please refer to the Program Objectives, Goals, and Implementation (POGI) document for a more detailed description of each type of IV program.

Guidelines: Goals and objectives for each specific IV program will be shared with the award recipients at an appropriate time following the announcement of the assistance awards. Most programs will be 21 to 30 days in length and will begin in Washington, DC, with an orientation and overview of the issues and a central examination of federal policies regarding these issues. Well-paced program itineraries usually include visits to four or five communities. Program itineraries ideally include urban and rural small communities in diverse geographical and cultural regions of the U.S., as appropriate to the program theme. Programs should provide opportunities for participants to experience the diversity of American society and culture. Participants in RPs or MRPs are divided into smaller sub-groups for simultaneous visits to different communities, with subsequent opportunities to share their experiences with the full group once it is reunited.

Award recipients should demonstrate the potential to develop the type of programs described below:

• Programs must contain substantive meetings that focus on foreign policy goals and program objectives and are presented by experts. Meetings, site visits, and other program activities should promote dialogue between participants and their U.S. professional counterparts. Programs must be balanced to show different sides of an issue;

• Most programs are 21 days in length and begin in Washington, DC, with an orientation and overview of the issues and a central examination of federal policies regarding these issues;

• Well-paced program itineraries usually include visits to four or five other communities. Program itineraries ideally include urban and rural communities in diverse geographical and cultural regions of the U.S., as appropriate to the program theme;

• Programs should provide opportunities for participants to experience the diversity of American society and culture. Depending on the size and theme of a large group program, the award recipients can divide the participants into smaller sub-groups for simultaneous visits to different communities, with subsequent opportunities to share their experience with the full group once it is reunited;

• Programs may provide opportunities for the participants to share a meal or similar experience (home hospitality) in the homes of Americans of diverse occupational, age, gender, and ethnic groups. Some individual and group programs might include an opportunity for an overnight stay (home stay) in an American home;

• Programs should provide opportunities for participants to address student, civic and professional groups in relaxed and informal settings;

• Participants should have appropriate opportunities for site visits and hands-on experience that are relevant to program themes. The award recipients may propose professional “shadowing” experiences with U.S. professional colleagues for some programs; (A typical shadowing experience means spending a half- or full-workday with a professional counterpart.)

• Programs should also allow time for participants to reflect on their experiences and, in group programs, to share observations with program colleagues. Participants should have opportunities to visit cultural and tourist sites; and

• The award recipients must make arrangements for community visits through affiliates of the NCIV. In cities where there is no such Council, the award recipients will arrange for coordination of local programs.

The award recipients are expected to have a Washington, D.C. presence, e-mail capability, and access to internet resources. DOS will provide close coordination and guidance throughout the duration of the awards.

Qualifications:

1. Applicants' proposals must demonstrate four years of successful experience in coordinating international exchanges.

2. Applicants' proposals must demonstrate the ability to develop and administer IV programs.

3. Proposals should demonstrate an applicant's broad knowledge of international relations and U.S. foreign policy issues.

4. Proposals should demonstrate an applicant's broad knowledge of the United States and U.S. domestic issues.

5. Proposals should demonstrate that an applicant has an established resource base of programming contacts and the ability to keep the base continuously updated. This resource base should include speakers, thematic specialists, or practitioners in a wide range of professional fields in both the private and public sectors.

6. All proposals must demonstrate sound financial management.

7. All proposals must contain a sound management plan to carry out the volume of work outlined in the Solicitation. This plan should include an appropriate staffing pattern and a work plan/time frame.

8. Applicants must include in their proposal narrative a discussion of “lessons learned” from past exchanges coordination experience, and how these will be applied in implementing the International Visitor Program.

9. Applicants must include as a separate attachment under TAB G of their proposals the following:

• Samples of at least two schedules for international exchange or training programs that they have coordinated within the past four years that they are particularly proud of and that they feel demonstrate their organization's competence and abilities to conduct the activities outlined in the RFGP;

• Samples of orientation and evaluation materials used in past international exchange or training programs.

Requirements for Past Performance References

Instead of Letters of Endorsement, DOS will use past performance as an indicator of an applicant's ability to successfully perform the work. Tab E of the proposal must contain between three and five references who may be called upon to discuss recently completed or ongoing work performed for professional exchange programs (may include the IV program). The references must contain the information outlined below. Please note that the requirements for submission of past performance information also apply to all proposed subcontractors when the total estimated cost of the subcontract is over $100,000.

At a minimum, the applicant must provide the following information for each reference:

• Name of the referenced organization

• Project name

• Project description

• Performance period of the contract/grant

• Amount of the contract/grant

• Technical contact person and telephone number for referenced organization

• Administrative contact person and telephone number for referenced organization

DOS may contact representatives from the organizations cited in the examples to obtain information on the applicant's past performance. DOS also may obtain past performance information from sources other than those identified by the applicant.

Personnel

Applicants must include complete and current resumes of the key personnel who will be involved in the program management, design and implementation of IV programs. Each resume is limited to two pages per person.

Visa Requirements

IV program participants will travel on J-1 visas arranged by the DOS. Programs must comply with J-1 visa regulations. Please refer to the Solicitation Package for further details.

Budget Guidelines

Applicants are required to submit a comprehensive line-item administrative budget in accordance with the instructions in the Solicitation Package (Proposal Submission Instructions.) The submission must include a summary budget and a detailed budget showing all administrative costs. If an organization wishes to bid on both Awards A and B, a separate proposal and budget for each award must be submitted. Proposed staffing and costs associated with staffing must be appropriate to the requirements outlined in the RFGP and in the Solicitation Package.

Award recipients enter into close consultation with the responsible ECA/PE/V Program Officer throughout development, implementation, and evaluation of each IV program. Cost sharing is encouraged and should be shown in the budget presentation.

The Department of State is seeking proposals from public and private non-profit organizations that are not already in communication with DOS regarding an FY-2002 assistance award from ECA/PE/V. All applicants must have four years' experience conducting international exchanges. It is incumbent on organizations to demonstrate a capacity for programming IV participants from all geographic regions of the world; proven fiscal management integrity; and an ability to have close consultation with DOS staff throughout program administration. Please refer to the Solicitation Package for complete budget guidelines and formatting instructions.

Announcement Title and Number: All communications with DOS concerning this announcement should refer to the announcement's title and reference number ECA/PE/V-02-01.

FOR FURTHER INFORMATION, CONTACT: The Office of International Visitors, Community Relations Division (ECA/PE/V/C), Room 266, U.S. Department of State, 301 4th Street, SW., Washington, DC 20547, telephone (202) 619-5234, fax (202) 619-4655, to request a Solicitation Package. The Solicitation Package contains detailed award criteria, required application forms, specific budget instructions, and standard guidelines for proposal preparation. For all other inquiries, please contact, Janet Beard, Chief, Group Projects Division (ECA/PE/V/P), telephone (202) 619-6892; fax (202) 205-0792; or e-mail: jbeard@pd.state.gov.

Please read the complete Federal Register announcement before sending inquiries or submitting proposals. Once the RFGP deadline has passed, Bureau staff may not discuss this competition with applicants until the proposal review process has been completed.

To Download a Solicitation Package Via Internet

The entire Solicitation Package may be downloaded from the Bureau's website at: http://exchanges.state.gov/education/RFGPs. Please read all information before downloading.

Deadline for Proposals

All proposal copies must be received at the Bureau of Educational and Cultural Affairs by 5 p.m. Washington, DC, time, by June 1, 2001. Faxed documents will not be accepted at any time nor will documents postmarked the due date but received on a later date. Each applicant must ensure that the proposals are received by the above deadline.

Submissions: Applicants must follow all instructions in the Solicitation Package. The original and 12 copies of the application should be sent to: U.S. Department of State, SA-44, Bureau of Educational and Cultural Affairs, Ref.: ECA/PE/V-02-01, Program Management, ECA/EX/PM, Room 534, 301 4th Street, SW., Washington, DC 20547.

Diversity, Freedom and Democracy Guidelines

Pursuant to the Bureau's authorizing legislation, programs must maintain a non-political character and should be balanced and representative of the diversity of American political, social, and cultural life. “Diversity” should be interpreted in the broadest sense and encompass differences including, but not limited to, ethnicity, race, gender, religion, geographic location, socio-economic status, and physical challenges. Applicants are strongly encouraged to adhere to the advancement of this principle both in program administration and in program content. Please refer to the review criteria under the “Support for Diversity” section for specific suggestions on incorporating diversity into the total proposal. Public Law 104-319 provides that “in carrying out programs of educational and cultural exchange in countries whose people do not fully enjoy freedom and democracy”, the Bureau “shall take appropriate steps to provide opportunities for participation in such programs to human rights and democracy leaders of such countries.” Public Law 106-113 requires that the governments of the countries described above do not have inappropriate influence in the selection process. Proposals should reflect advancement of these goals in their program contents, to the full extent deemed feasible.

Review Process

The Bureau will acknowledge receipt of all proposals and will review them for technical eligibility. Proposals will be deemed ineligible if they do not fully adhere to the guidelines stated herein and in the Solicitation Package. All eligible proposals will be reviewed by the program office. Eligible proposals will be subject to compliance with Federal and Bureau regulations and guidelines and forwarded to grant panels of Bureau officers for advisory review. Proposals may also be reviewed by the Office of the Legal Advisor or by other Department elements. Final funding decisions are at the discretion of the Department of State's Acting Assistant Secretary for Educational and Cultural Affairs. Final technical authority for assistance awards or cooperative agreements resides with the Bureau's Grants Officer.

Review Criteria

Technically eligible applications will be competitively reviewed according to the criteria stated below. These criteria are not rank ordered, and all carry equal weight in the proposal evaluation:

1. Evidence of Understanding/Program Planning: The proposal should convey that the applicant has a good understanding of the overall goals and objectives of the IV Program. It should exhibit originality, substance, precision, and be responsive to requirements stated in the RFGP and the Solicitation Package. The proposal should contain a detailed and relevant work plan that demonstrates substantive intent and logistical capacity. The plan should adhere to the program overview and guidelines cited in the RFGP.

2. Support of Diversity: The proposal should demonstrate substantive support of the Bureau's policy on diversity. Achievable and relevant features should be cited in both program administration (selection of resources, program venue and program evaluation) and program content (orientation and wrap-up sessions, program meetings, resource materials and follow-up activities).

3. Institutional Capacity: The proposal should clearly demonstrate the applicant's capability for performing the type of work required by the IV Program and how the institution will execute its program activities to meet the goals of the IV Program. It should reflect the applicant's ability to design and implement, in a timely and creative manner, professional exchange programs which encompass a variety of project themes. Proposed personnel and institutional resources should be adequate and appropriate to achieve the program goals. Finally, the proposal also must demonstrate that the applicant has or can recruit adequate and well-trained staff.

4. Institution's Record/Ability: The proposal should demonstrate an institutional record of a minimum of four years of successful experience in conducting IV or other professional exchange programs, which are similar in nature and magnitude to the scope of work outlined in this solicitation. Note that evidence of success includes responsible fiscal management and full compliance with all reporting requirements such as those set out for DOS cooperative agreements. The applicant must demonstrate the potential for programming IV participants from all geographic regions of the world and must have a Washington, D.C. presence.

5. Cost-effectiveness/Cost-sharing: The administrative and indirect cost components of the proposal, including salaries, should be kept as low as possible. Consideration will be given to proposed cost-sharing through other private sector support and institutional direct funding contributions.

6. Project Evaluation: Proposals should include a plan to evaluate the activity's success, both as the activities unfold and at the end of the program. A draft survey questionnaire or other technique plus description of a methodology to use to link outcomes to original project objectives is recommended. Successful applicants will be expected to submit intermediate reports after each project component is concluded or quarterly, whichever is less frequent.

Authority

Overall grant making authority for this program is contained in the Mutual Educational and Cultural Exchange Act of 1961, Public Law 87-256, as amended, also known as the Fulbright-Hays Act. The purpose of the Act is “to enable the Government of the United States to increase mutual understanding between the people of the United States and to the people of other countries * * *; to strengthen the ties which unite us with other nations by demonstrating the educational and cultural interests, developments, and achievements of the people of the United States and other nations * * * and thus to assist in the development of friendly, sympathetic and peaceful relations between the United States and the other countries of the world.” The funding authority for the program above is provided through legislation.

Notice

The terms and conditions published in this RFGP are binding and may not be modified by any Bureau representative. Explanatory information provided by the Bureau that contradicts published language will not be binding.

Issuance of the RFGP does not constitute an award commitment on the part of the Government. The Bureau reserves the right to reduce, revise, or increase proposal budgets in accordance with the needs of the program and the availability of funds. Awards made will be subject to periodic reporting and evaluation requirements.

Government Reporting Requirements

In order to account better for the spending of public funds, the Government Performance and Results Act of 1993 (GPRA) requires federal agencies and departments to establish standards for measuring their performance and effectiveness. Each Executive Branch Agency and Department must develop a strategic plan describing its overall goals and objectives, annual performance plans containing quantifiable measures of its progress, and performance reports describing its success in meeting these goals and measures. DOS will be looking to our partner organizations to measure and report in three areas: (1) Program efficiency (resource costs versus outputs); (2) program effectiveness (degree to which program goals are achieved); and (3) program impact (outcomes).

For general administrative assistance awards such as this, specific program results will be worked out on an individual project basis. DOS will work closely with its partner organizations to define specific project results, coordinate the gathering of information, and evaluate the projects according to the three areas listed above. Please note that DOS advances several strategic goals (national security, economic prosperity, American citizens and U.S. borders, law enforcement, democracy and human rights, humanitarian response, global issues: environment, population, health, and mutual understanding) and you may be asked to administer projects and measure outcomes for each. Project outcomes will be based on country or regional goals as well as the Bureau of Educational and Cultural Affairs' goals to expose foreign leaders (participants) to American ideas, values, and society; increase Americans' understanding of foreign cultures and society; foster linkages between U.S. and foreign individuals and institutions; and generate cost sharing and other forms of financial leveraging for programs.

Notification

Final awards cannot be made until funds have been appropriated by Congress, allocated and committed through internal DOS procedures.

Dated: March 26, 2001.
Helena Kane Finn,
Acting Assistant Secretary for Educational and Cultural Affairs, Department of State.

[FR Doc. 01-8421 Filed 4-4-01; 8:45 am]

BILLING CODE 4710-05-P